OFFICE OF SCIENCE AND TECHNOLOGY POLICY

Plan for Ocean Research in the Coming Decade

ACTION: Notice of request for information.

SUMMARY: The Subcommittee on Ocean Science and Technology (SOST) is requesting input on the overall framing and content of a plan for Ocean Research in the Coming Decade (“the Plan”). The SOST is chartered under the National Science and Technology Council to advise and assist on national issues related to ocean science and technology. The SOST contributes to the goals for Federal ocean science and technology, including identifying priorities and developing coordinated interagency strategies. The Plan will describe the most pressing research questions and most promising areas of opportunity within the ocean science and technology enterprise for the coming decade. It will set the stage for agency-specific and interagency coordinated actions across Federal agencies and with non-Federal sectors to address societal needs and issues of national importance. This notice solicits relevant public input, particularly suggestions directed toward how the Plan should be structured and specific topic areas that should be considered for inclusion.

DATES: Public comments must be received by January 1, 2017 to be considered.

ADDRESSES: Public input for the Plan can be submitted electronically at https://contribute.globalchange.gov/plan-ocean-research-coming-decade.

Instructions: Additional instructions for submitting are found on the Web site provided above. To comment on the Plan, please select “Ocean Research in the Coming Decade” from the list of available documents. Response to this Request for Information (RFI) is voluntary. All submissions must be in English. Please clearly label submissions as “Ocean Research in the Coming Decade Input.” When the final Plan is issued, relevant comments and the commenters' names, along with the authors' responses, will become part of the public record and be made available to view online. Further information about the Plan, including the Plan prospectus, is provided at https://www.nsf.gov/geo/oce/orp/.

Responses to this RFI may be used by the government for program planning on a non-attribution basis. The Office of Science and Technology Policy (OSTP) therefore requests that no business proprietary information, copyrighted information, or personally identifiable information be submitted in response to this RFI. Please note that the U.S. Government will not pay for response preparation, or for the use of any information contained in the response.

FOR FURTHER INFORMATION CONTACT: Roxanne Nikolaus, Division of Ocean Sciences, National Science Foundation, 4201 Wilson Boulevard, Arlington, VA 22230, (703) 292-8580, or rnikolau@nsf.gov, or visit https://contribute.globalchange.gov/plan-ocean-research-coming-decade or https://www.nsf.gov/geo/oce/orp/.

SUPPLEMENTARY INFORMATION: A Plan prospectus intended to stimulate feedback from the public on the overall framing and content of the Plan is available for public viewing at https://www.nsf.gov/geo/oce/orp/prospectus.jsp. The prospectus outlines the purpose and intended uses of the Plan, the proposed structure and content of the Plan, how the Plan will be developed and reviewed, and opportunities for community and stakeholder engagement. Additional information, including any updates to this Federal Register notice, is available at https://www.nsf.gov/geo/oce/orp/. A draft Plan will also be available for public comment upon its completion and prior to production of the final Plan.

The Plan will describe:

• Societal Themes that highlight the benefits-based rationale for conducting ocean research;

• Research Goals that reflect and address the Societal Themes; and

• Research Activities that support the Research Goals and represent current and growing opportunities to provide the Nation with the scientific and technical means to address the Societal Themes.

Ted Wackler,
Deputy Chief of Staff and Assistant Director.

[FR Doc. 2016-26118 Filed 10-27-16; 8:45 am]

BILLING CODE 3270-F7-P